DEPARTMENT OF EDUCATION

Office of Elementary and Secondary Education and the Office of Vocational and Adult Education; Smaller Learning Communities Program

AGENCY: Department of Education.

ACTION: Notice of final priorities, application requirements, and selection criteria for Fiscal Year (FY) 2001.

SUMMARY: The Assistant Secretary for Elementary and Secondary Education and the Assistant Secretary for Vocational and Adult Education announce final priorities, application requirements, and selection criteria for the Smaller Learning Communities (SLC) program for fiscal year (FY) 2001.

EFFECTIVE DATE: These priorities, application requirements and selection criteria are effective January 18, 2002.

FOR FURTHER INFORMATION CONTACT: For information on the program and to download an application, you may access the SLC program web site at www.ed.gov/offices/OESE/SLCP/. If you have questions pertaining to the application, you may send an e-mail to smallerlearningcommunities@ed.gov. If you need further assistance and need to speak with someone in the SLC program, you may contact Andrew Abrams, (202) 260-7430, 330 C Street, SW., MES Bldg., Room 5512, Washington, DC 20202. You may also contact Diane Austin (202) 260-1280, 400 Maryland Ave., SW., Room 5C149, Washington, DC 20202-6200. Requests for applications may also be sent by fax to (202) 260-8969.

Individuals who use the telecommunications device for the deaf (TDD) may call the Federal Information Relay Service (FIRS) at 1-800-877-8339.

Individuals with disabilities may obtain this document in an alternative format (e.g., Braille, large print, audiotape, or computer diskette) on request to the contact persons listed above.

Note: This notice of final priorities, application requirements, and selection criteria does not solicit applications. A notice inviting applications under this competition is published elsewhere in this issue of the Federal Register. The notice inviting applications will specify the deadline date by which applications for an award must be mailed or hand-delivered to the Department.

Background

Research suggests that the positive outcomes associated with smaller schools stem from the schools' ability to create close, personal environments in which teachers can work collaboratively, with each other and with a small set of students, to challenge students and support learning. A variety of structures and complementary strategies are thought to provide important supports for smaller learning environments; some data suggest these approaches offer substantial advantages to both teachers and students (Ziegler 1993; Caroll 1994).

The Smaller Learning Communities program is authorized under section 10105 of part A of title X of the Elementary and Secondary Education Act of 1965 (ESEA) (20 U.S.C. 8005). Title X, Part A authorizes the Secretary to support nationally significant programs and projects to: (1) Improve the quality of education; (2) assist all students in meeting challenging State content standards; and (3) contribute to achieving National Education Goals.

The purpose of the Smaller Learning Communities program is to support the planning, implementation, or expansion of small, safe, and successful learning environments in large public high schools through competitive grants to local educational agencies (LEAs). LEAs may apply on behalf of large high schools including large high schools funded by the Bureau of Indian Affairs (BIA schools). For the purposes of this program, a large high school is defined as a school that includes grades 11 and 12 and enrolls at least 1,000 students in grades 9 and above.

Methods for recasting large schools as a set of smaller learning communities are included in the Conference Report for the Consolidated Appropriations Act, 2000 [Pub. L. 106-113, H.R. Conference Report No. 106-479, at 1240 (1999)]. Such restructuring methods include establishing small learning clusters, “houses,” career academies, magnet programs, or schools-within-a-school. Strategies that complement a restructured large high school include block scheduling, freshman transition activities, advisory or adult advocate systems, academic teaming, multi-year groupings, and other innovations designed to create a more personalized high school experience for students and thus, improve student achievement.

In FY 2000, Congress appropriated $45 million, of which the Department awarded $42.3 million in support of 149 grants to local educational agencies. The Secretary awarded 84 one-year planning grants and 65 three-year implementation grants. A total of 349 schools, serving over 450,000 students, benefited during the first year of the program. The Secretary reserved the remaining $2,250,000 to fund national leadership activities.

Congress appropriated $125 million for this program in FY 2001. The Administration is not requesting funds for the Smaller Learning Communities program in FY 2002. Rather, the Administration is proposing a new Choice and Innovation State Grants program under which States and LEAs would have greater flexibility in using funds for activities, such as the creation of smaller learning communities, that will support educational reform and improvement.

Prospective applicants are encouraged to review the Program Web site for non-regulatory guidance, information about current grantees, and to review successful applications at: www.ed.gov/offices/OESE/SLCP. Written questions may be submitted through the Internet at: smallerlearningcommunities@ed.gov.

Public Comments: The Department published a notice of proposed priorities, application requirements, and selection criteria for this competition in the Federal Register on July 19, 2001, (66 FR 37871-37876).

In response to the Assistant Secretaries' invitation to comment, five parties submitted comments on the proposed priorities, application requirements, and selection criteria. An analysis of the comments and of the changes in the priorities, application requirements, and selection criteria since publication of the July 19, 2001, notice follows.

We discuss substantive issues under the priority, requirement, or criterion to which they pertain. Generally, we do not address technical changes, minor changes, and suggested changes the law does not authorize the Assistant Secretaries to make under the applicable statutory authority.

Analysis of Comments and Changes

Competitive Priorities

Comment: A commenter suggested that giving competitive preference to existing Smaller Learning Communities planning grantees is unfair to schools that have had to progress through the planning process on their own, without additional federal funds to do so.

Discussion: We agree that current Smaller Learning Communities planning grantees should not receive a competitive priority when they apply for implementation grants, based solely on their status as a current planning grantee.

Changes: This notice of final priorities, application requirements, and selection criteria does not include the proposed competitive priority for current planning grantees.

Comment: A commenter proposed that schools already in the process of institutionalizing reform strategies aimed toward the creation of smaller learning communities should receive priority points.

Discussion: The Program is designed to help schools plan, implement, or expand smaller learning communities. Schools that are already in the implementation stage should be in a position to submit a strong application for an implementation grant. The Department does not believe a priority for these schools is necessary.

Changes: None.

Comment: A commenter suggested that we expand the proposed priority for low-performing schools to include schools that may have groups of low-performing students with respect to gaps among diverse groups of students.

Discussion: The intent of this program is to improve student achievement for all students; therefore, the Assistant Secretaries believe that the competitive priority, as written, provides the appropriate level of targeting for low-performing schools under this program.

Changes: None.

Comment: A commenter recommended that we give competitive priority points to schools based on the size of their student body over 1,000 students.

Discussion: At this time there is not sufficient research evidence to support priority points for high schools that exceed a specific size.

Changes: None.

Application Requirements

Comment: A commenter disagreed with eliminating planning grants from the SLC competition stating that smaller learning communities are a new concept for many schools and local educational agencies (LEAs), and that LEAs need time to research best practices and plan before implementing.

Discussion: We are in agreement that planning grants should remain a part of the Smaller Learning Communities program. LEAs and their cooperating schools need time to decide on the best strategies to use at their sites, to develop support for those strategies among all stakeholders, and to plan for the implementation of those strategies.

Changes: The Department will invite applications for planning grants as well as for implementation grants in the FY 2001 competition.

Comment: A commenter suggested that the Department allow consortia of LEAs with ten or more districts to apply under a single grant application.

Discussion: The Department proposed that LEAs may include a maximum of ten schools within one application submitted by an LEA or consortium of LEAs. This proposal was based on a maximum award per application of $250,000 for planning grants and $2,500,000 for implementation grants. LEAs or consortia of LEAs may submit multiple applications requesting funds for up to ten schools within each application. We believe that an LEA or consortium applying for a single grant on behalf of more than ten schools will not have sufficient funds to carry out their proposed tasks, based on the funding scale.

Changes: None.

Selection Criteria

Comment: A commenter suggested that the program recognize efforts that support nationally recognized issues such as the disparity in performance for minority students, teacher shortages, and varying levels of teacher preparedness.

Discussion: The Smaller Learning Communities program statute focuses on increasing student academic achievement through the creation of smaller learning environments, as a strategy in and of itself. Many schools, particularly low-performing schools, are likely to exhibit the problems identified by the commenter, and individual applicants are encouraged to address these problems in their applications for funding.

Changes: None.

General Comments

Comment: A commenter proposed that applicants be required to address State content and performance standards as well as the role of the district in implementing the Smaller Learning Communities program.

Discussion: In accordance with section 10105(a)7 of the Program statute, the Department requires that applicants describe how the goals and objectives of the activities for which they are requesting funding are geared to meeting high State content standards and performance standards. Also, under section 10105(10), the application must include a description of the administrative and managerial relationship between the local educational agency and the smaller learning community or communities, including how such agency will demonstrate a commitment to the continuity of the smaller learning community or communities.

Changes: None.

Comment: A commenter suggested that the Department encourage adult education and career education as a resource for low-performing schools as well as partnerships between secondary and adult programs.

Discussion: While we agree that grantees should have a variety of strategies from which to choose, the focus of this program is to provide resources for LEAs that have large high schools. Schools have the flexibility to focus on career-specific curricula if that is what they choose to do.

Changes: None.

Comment: A commenter proposed that reducing school violence be an explicit program goal.

Discussion: We agree that creating smaller high schools holds great potential for improving school safety, and encourage applicants to include reducing school violence as a goal of their grant. In the selection criteria for implementation grants, incidents of violence and disciplinary actions are included among the factors peer reviewers will consider under the criterion of need for the project, and designing an effective method for describing progress toward the implementation of safe and successful smaller learning communities is included among the factors under the criterion for quality of the project evaluation.

Changes: None.

Competitive Priority

Under 34 CFR 75.105(c)(2), the Secretary gives a competitive priority to applications that request funding to support smaller learning communities in low-performing high schools that meet all other eligibility requirements for the competition. Applicants will receive up to five additional points based on the proportion of participating schools included in the application that are identified as low-performing. These points are in addition to any points the applicant earns under the selection criteria of the program. Low-performing schools can be identified by local and State educational agencies using the criteria in Title I, Part A, section 1116(c) of the Elementary and Secondary Education Act, which identifies for improvement any Title I school that has not made continuous and sustained progress over two years. In addition, for the purposes of this program, States and LEAs that have their own established criteria for identifying low-performing schools may use those criteria to provide evidence for the competitive priority. Applicants must specify the method used to identify schools as low-performing.

Application Requirements

The Secretary announces the following application requirements for the Smaller Learning Communities program. These are in addition to the content that all Smaller Learning Communities grant applicants must include in their applications as required by the program statute under section 10105(a) of the Elementary and Secondary Education Act. A discussion of each requirement follows:

A. Proof of Eligibility

To be considered for funding, LEAs must include the name(s) of the eligible school(s) and the number of students enrolled in each school. Enrollment must be based upon data from the current school year or data from the most recently completed school year. LEAs applying on behalf of schools that are being constructed and do not have an active student enrollment at the time of application are not eligible under this program.

B. Types and Ranges of Awards

The Secretary will award both planning and implementation grants under this year's competition. Applicants pursuing planning grants must not yet have developed a viable plan for creating smaller learning communities. To apply for implementation funds, applicants must be prepared either to implement a new smaller learning community program within each targeted high school, or to expand an existing smaller learning community program.

For a one-year planning grant, LEAs may receive, on behalf of a single school, $25,000 to $50,000 per project. LEAs applying on behalf of a group of eligible schools may receive up to $250,000 per planning grant. As this program is designed to finance direct student services and local redesign and improvement efforts, districts should stay within the minimum and maximum school allocations when determining their group award request. Therefore, in order to ensure sufficient planning funds at the local level, LEAs may not request funds for more than 10 schools under a single application.

The chart below provides eligible ranges for awards under the planning grant:

Number of schools in LEA application | Award ranges
One School | $25,000-$50,000
Two Schools | $50,000-$100,000
Three Schools | $75,000-$150,000
Four Schools | $100,000-$200,000
Five Schools | $125,000-$250,000
Six Schools | $150,000-$250,000
Seven Schools | $175,000-$250,000
Eight Schools | $200,000-$250,000
Nine Schools | $225,000-$250,000
Ten Schools | $250,000

To ensure maximum flexibility and competitiveness, LEAs may submit multiple applications targeting distinct schools within each funding category. However, LEAs may not apply on behalf of a single high school in more than one application. Schools that received support through planning grants in the 2000 competition are not eligible to receive additional planning grants under the 2001 competition.

For a three-year implementation grant, LEAs may receive, on behalf of a single school, $250,000 to $500,000 per project. LEAs applying on behalf of a group of eligible schools may request up to $2,500,000 per implementation grant. As this program is designed to finance direct student services and local redesign and improvement efforts, districts should stay within the minimum and maximum school allocations when determining their group award request. Therefore, in order to ensure sufficient implementation funds at the local level, LEAs may not request funds for more than 10 schools under a single application.

The chart below provides eligible ranges for awards under the implementation grant:

Number of schools in LEA application | Award ranges
One School | $250,000-$500,000
Two Schools | $500,000-$1,000,000
Three Schools | $750,000-$1,500,000
Four Schools | $1,000,000-$2,000,000
Five Schools | $1,250,000-$2,500,000
Six Schools | $1,500,000-$2,500,000
Seven Schools | $1,750,000-$2,500,000
Eight Schools | $2,000,000-$2,500,000
Nine Schools | $2,250,000-$2,500,000
Ten Schools | $2,500,000

To ensure maximum flexibility and competitiveness, LEAs may submit multiple applications targeting distinct schools within each application. However, LEAs may not apply on behalf of a single high school in more than one application. Schools that benefited from FY 2000 implementation awards are not eligible to receive additional support under this competition. The total amount an LEA may receive, in any fiscal year under this program, may not exceed $5 million.

C. Project Period

Planning grants will fund activities up to 12 months. Implementation grants will fund activities up to 36 months.

Note: Applicants for multi-year awards must provide detailed, yearly budget information for the total grant period requested. Understanding the unique complexities of implementing a program that affects a school's organization, physical design, curriculum, instruction, and preparation of teachers, the Secretary anticipates awarding the entire grant amount for implementation projects at the time of the initial award. This will provide the applicant with the capacity to effectively carry out the comprehensive long-term activities involved in model development, documentation, evaluation, and dissemination of products and practices developed through the federal grant. Uninterrupted access to funds will depend upon a grantee's close adherence to its yearly budget projections as well as submission of an annual performance report, showing adequate progress, during the three-year period of the grant.

D. Page Limits

Applicants should limit the application narrative to no more than 25 double-spaced pages using the following standards:

(1) A page is 8.5″ x 11″, on one side only;

(2) The page limit includes all narrative, titles, headings, footnotes, quotations, references, and captions, as well as charts, tables, figures, and graphs. Charts, tables, figures, and graphs may be single-spaced;

(3) The font should be 11-point or larger;

(4) The page limit does not apply to the Application for Federal Education Assistance Form (424); the SLC cover page; the Budget Information Form (ED 524) and attached itemization of costs; any other required or supplementary application forms and attachments to those forms; the assurances and certifications; the table of contents; the one-page abstract (which should precede the narrative section and provide enrollment data for each eligible high school and a short description of the project); documentation of the extent to which the applicant meets the competitive priority for the competition; or appendices. Appendices used should relate directly to the selection criteria and project activities. Pages should be numbered.

E. Reporting Requirements and Expected Outcomes

For both planning and implementation grants, applicants must describe their:

(a) Project objectives;

(b) Measures of student outcomes and performance; and

(c) Indicators to gauge progress toward meeting project objectives.

In addition, the Secretary requires implementation grantees to collect data that address the performance indicators for this program in order to produce annual performance reports. These reports will document the grantees' yearly progress toward expected project objectives. The Secretary will use these reports to measure the success of each grantee's project, as well as the effects of the Department of Education's Smaller Learning Communities program nationwide. A copy of the Smaller Learning Communities Annual Performance Report for implementation grantees is included in the application package. Planning grantees will be required to submit a performance report, including their implementation plan, at the end of their project.

Applicants must submit initial baseline data for each student outcome measure described below. Baseline data should come from either the current or previous school year. Applicants must report this data as an appendix. Upon notification of award, grantees will be required to submit student outcome data for three years preceding the baseline year.

Required student outcome measures include:

I. Student Achievement

(a) The number of students scoring at each proficiency level for each subject measured by a State assessment (district assessments may substitute where State assessments do not yet exist) in grades 9-12;

(b) The number of students taking the SAT and ACT, and their average scores;

II. Academic Rigor and Student Retention

(a) The number of students who take courses for which they receive both high school and college credit;

(b) The number of students completing high school;

(c) The overall reported average daily attendance for October.

III. School Climate

(a) The number of incidents of student violence, alcohol and drug use;

(b) The number of expulsions, suspensions, or other serious disciplinary actions; and

(c) The number of students involved in extracurricular activities.

Note: Percentages may be used in place of number of students where appropriate.

F. Definitions

(a) Definitions in EDGAR—Definitions defined in 34 CFR 77.1 are applicable to this program.

(b) Other definitions—The following definitions also apply to this program:

BIA school is a school operated or supported by the Bureau of Indian Affairs.

A group of schools is two or more schools that each meet the definition of a large high school.

A large high school is an entity that includes grades 11 and 12 and has an enrollment of 1,000 or more students in grades 9 and above.

A low-performing school is a school identified by local and State educational agencies under section 1116(c) of the Elementary and Secondary Education Act. Under current law, any Title I school that has not made “adequate yearly progress” over two years is identified by its LEA for improvement. In addition, for the purpose of this program, States and LEAs that have established criteria for identifying such schools may use their criteria to meet the competitive priority preference.

Selection Criteria

Under the Smaller Learning Communities program competition, a peer review panel will make a careful evaluation of applications. Each panelist will evaluate the applications against the criteria listed below. The panel results are advisory in nature and not binding on the Secretary. The Secretary will use the following selection criteria and associated point values in evaluating applications for planning and implementation grants:

(a) The maximum score for all of these criteria is 100 points. Applicants that meet the competitive priority eligibility requirements may receive up to 105 points.

(b) The maximum score for each criterion is indicated in parentheses. Within each criterion, the Secretary evaluates each factor equally.

The Secretary will base final funding decisions on the panel review ranking of applications. Geographic balance is no longer a consideration in funding decisions.

Planning Grants

(a) Need for the project. (25 points) In determining the need for the proposed project, the Secretary considers the following factors:

(1) The description and documentation of the targeted schools' need for the services provided and the need for the activities carried out by the proposed project consistent with the educational problems generally associated with the impersonal nature of large high schools. Need may consider factors such as: enrollment; attendance and drop-out rates; incidents of violence, drug and alcohol use, and disciplinary actions; percentage of students who pass graduation exams or State assessments (local assessments may be substituted in states that do not yet administer State assessments), enroll in advanced level courses, register for college entrance exams, and matriculate into postsecondary institutions or training; percentage of students who have limited English proficiency, who are migrant youth, who come from low-income families, or are otherwise disadvantaged; the applicant's fiscal capacity to fund programs described here without Federal assistance; or other local need factors as described by the applicant.

(2) The extent to which specific gaps or weaknesses [including the nature and magnitude of those gaps and weaknesses] in services, infrastructure, or opportunities have been identified by the applicant and will be addressed by the proposed project.

(b) Foundation for planning. (20 points) In determining the merit of the proposed process for developing a viable implementation plan, the Secretary considers the extent to which the application:

(1) Involves and documents the support of stakeholders both within the school community (e.g. administrators, staff, students, and parents) and within the greater community (e.g. representatives of institutions of higher education, employers, workforce investment boards, youth councils, and community-based organizations).

(2) Provides clear evidence of teacher involvement and support, particularly of those teachers who will be directly affected by the implementation plan.

(3) Indicates the collection and use of data that describe school needs.

(4) Documents the use of research-based findings in the proposed restructuring of the learning environment.

(c) Feasibility and soundness of the planning process. (45 points) In determining the feasibility and soundness of the planning process as a means of producing a viable implementation plan, the Secretary considers the extent to which the planned activities:

(1) Are based on a commitment to meeting the needs of all students and ensuring the successful completion of their education or career goals.

(2) Will lead to the establishment of smaller learning communities having clear goals and objectives connected to a mission statement and to student needs.

(3) Follow a timeline appropriate to the goals and objectives to be achieved.

(4) Involve key personnel who are qualified to undertake project activities.

(d) Commitment of resources to the planning effort. (10 points) In determining the commitment of resources to the planning effort the Secretary considers the extent to which:

(1) The requested budget adequately supports the proposed activities.

(2) State, local, and other Federal funds will be used to support the development of the plan.

(3) The administrative and managerial relationship between the LEA, the school(s), and the smaller learning community(ies) demonstrates a commitment to the concept of a smaller learning community and the planning process.

Implementation Grants

(a) Need for the project. (25 points) In determining the need for the proposed project, the Secretary considers the following factors:

(1) The description and documentation of the targeted schools' need for the services provided and the need for the activities carried out by the proposed project consistent with the educational problems generally associated with the impersonal nature of large high schools. Need may consider factors such as: enrollment; attendance and drop-out rates; incidents of violence, drug and alcohol use, and disciplinary actions; percentage of students who pass graduation exams or State assessments (local assessments may be substituted in states that do not yet administer State assessments), enroll in advanced level courses, register for college entrance exams, and matriculate into postsecondary institutions or training; percentage of students who have limited English proficiency, who are migrant youth, who come from low-income families, or are otherwise disadvantaged; the applicant's fiscal capacity to fund programs described here without Federal assistance; or other local need factors as described by the applicant.

(2) The extent to which specific gaps or weaknesses (including the nature and magnitude of those gaps and weaknesses) in services, infrastructure, or opportunities have been identified by the applicant and will be addressed by the proposed project.

(b) Foundation for implementation. (15 points) In determining the quality of the implementation plan, the Secretary considers the extent to which the application:

(1) Documents the involvement and support of stakeholders both within the school community (e.g., administrators, staff, students, and parents) and within the greater community (e.g. representatives of institutions of higher education, employers, workforce investment boards, youth councils, and community-based organizations).

(2) Provides clear evidence of teacher involvement and support, particularly of those teachers who will be directly affected by the implementation plan.

(3) Uses research-based findings and outside technical assistance in the proposed restructuring and in determining appropriate strategy(ies) to be implemented.

(c) Feasibility and soundness of the plan. (35 points) In determining the quality of the proposed project, the Secretary considers the extent to which:

(1) The goals and objectives of the smaller learning communities correspond to identified needs and are written in terms of student outcomes, including academic achievement.

(2) The curriculum and instructional practices within each smaller learning community are aligned with its goals, theme, and emphases, where they exist.

(3) The proposed smaller learning communities intervention(s) will benefit all students in the school and enable them to reach challenging State content standards and performance standards, ensuring their successful completion of high school and preparation for postsecondary education or a career.

(4) Professional development activities offered to teachers, non-instructional school staff, and others are aligned with smaller learning community goals.

(5) The applicant provides a rationale for—

• Identifying grade levels and ages of students to be served by the smaller learning community(ies); and

• The methods and timetable for placing students in the smaller learning community(ies). Note: Students are not to be placed according to ability, performance, or any other measure of merit. The Department expects that all students will benefit from the SLC intervention.

(6) The management plan appears capable of achieving the objectives of the proposed project on time and within budget, including:

• The past experience, training, and clearly defined responsibilities of personnel who have key roles in carrying out the project; and

• The timelines and milestones for accomplishing project tasks.

(d) Quality of the project evaluation. (15 points) In determining the quality of the evaluation, the Secretary considers whether the applicant has designed an effective method for:

(1) Collecting student performance data, including:

• Required data for annual performance reports,

• Baseline data (to be included as an Appendix; refer to “Reporting Requirements and Expected Outcomes”), and data for three years preceding the baseline (the latter due upon award); and

• A process for monitoring and understanding changes in student outcomes for continuous improvement.

(2) Describing, on an annual basis, the progress towards implementing smaller learning communities and implementing related program changes undertaken to make the smaller learning communities safe and successful. This information will be reported in the Annual Performance Report.

(3) Disseminating best practices and products designed under this grant.

(e) Adequacy of resources. (10 points) In determining the adequacy of resources for the proposed project, the Secretary considers the extent to which:

(1) State, local, foundation, and other Federal funds will be used to support the implementation of the plan.

(2) The applicant will limit equipment, administrative costs, and other purchases in order to maximize the amount spent on delivery of services to students.

(3) The applicant demonstrates a commitment to sustain the project beyond the period covered by the Federal grant.

Intergovernmental Review of Federal Programs

This program is subject to the requirements of Executive Order 12372 (Intergovernmental Review of Federal Programs) and the regulations in 34 CFR part 79.

The objective of the Executive order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedures established in each State under the Executive Order.

If you want to know the name and address of any State Single Point of Contact (SPOC), see the latest list official SPOC list on the OMB Web site of the Office of Management and Budget at the following address: http://www.whitehouse.gov/omb/grants.

In States that have not established a process or chosen a program for review, State, area-wide, regional, and local entities may submit comments directly to the Department.

Any State Process Recommendation and other comments submitted by a State Single Point of Contact and any comments from State, area-wide, regional, and local entities must be mailed or hand-delivered by the date indicated in this notice to the following address: The Secretary, E.O. 12372-CFDA #84.215L, U.S. Department of Education, Room 7E200, 400 Maryland Avenue, SW., Washington, DC 20202-0125.

We will determine proof of mailing on the same basis as we determine proof of mailing for applications (see 34 CFR 75.102). Recommendations or comments may be hand-delivered until 4:30 p.m. (Washington, DC time) on the date indicated in this notice. Please Note That the Above Address Is Not the Same Address as the One to Which the Applicant Submits Its Completed Application. Do not Send Applications to the Above Address.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington DC area at (202) 512-1530.

Note: The official version of this document is the document published in the Federal Register. Free Internet access to the official edition of the Federal Register and the Code of Federal Regulations is available on GPO Access at: http://access.gpo.gov/nara/index.html

(Catalogue of Federal Assistance Number: 84.215L Smaller Learning Communities program)
Dated: December 14, 2001.
Susan B. Neuman,
Assistant Secretary for Elementary and Secondary Education.
Carol D'Amico,
Assistant Secretary for Vocational and Adult Education.

[FR Doc. 01-31273 Filed 12-18-01; 8:45 am]

BILLING CODE 4000-01-U